NUCLEAR REGULATORY COMMISSION

Sunshine Notice

AGENCY HOLDING THE MEETING: Nuclear Regulatory Commission.

DATE: Weeks of February 25, March 4, 11, 18, 25, April 1, 2002.

PLACE: Commissioners' Conference room, 11555 Rockville Pike, Rockville, Maryland.

STATUS: Public and Closed.

Note: MATTERS TO BE CONSIDERED:

Week of February 25, 2002

Friday, March 1, 2002

9:30 a.m.

Briefing on Status of Office of the Chief Financial Officer (OCFO) Programs, Performance, and Plans (Public Meeting) (Contact: Lars Solander, 301-415-6080)

This meeting will be webcast live at the Web address— www.nrc.gov

Week of March 4, 2002—Tentative

Monday, March 4, 2002

2:00 p.m.

Briefing on Status of Nuclear Waste Safety (Public Meeting)

(Contact: Claudia Seelig, 301-415-7243)

This meeting will be webcast live at the Web address— www.nrc.gov

Week of March 11, 2002—Tentative

There are no meetings scheduled for the Week of March 11, 2002.

Week of March 18, 2002—Tentative

Tuesday, March 19, 2002

9:30 a.m.

Briefing on Office of Nuclear Regulatory Research (RES) Programs, Performance, and Plans (Public Meeting) (Contact: James Johnson, 301-415-6802)

This meeting will be webcast live at the Web address— www.nrc.gov

Wednesday, March 20, 2002

9:25 a.m.

Affirmation Session (Public Meeting) (If needed)

9:30 a.m.

Meeting with Advisory Committee on Nuclear Waste (ACNW) (Public Meeting) (Contact: John Larkins, 301-415-7360)

This meeting will be webcast live at the Web address— www. nrc.gov

Week of March 25, 2002—Tentative

There are no meetings scheduled for the Week of March 25, 2002.

Week of April 1, 2002—Tentative

There are no meetings scheduled for the Week of April 1, 2002.

* The schedule for Commission meetings is subject to change on short notice. To verify the status of meetings call (recording)—(301) 415-1292. Contact person for more information: David Louis Gamberoni (301) 415-1651.

* * * * *

The NRC Commission Meeting Schedule can be found on the Internet at: www.nrc.gov

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 21, 2002.
David Louis Gamberoni,
Technical Coordinator, Office of the Secretary.

[FR Doc. 02-4575 Filed 2-22-02; 10:18 am]

BILLING CODE 7590-01-M